DEPARTMENT OF JUSTICE

Notice of Federal Advisory Committee Meeting

AGENCY: Department of Justice.

ACTION: Notice of Federal Advisory Committee Meeting.

SUMMARY: This notice announces a forthcoming public meeting of the National Commission on Forensic Science.

DATES: The meeting will be held on August 26, 2014, from 1:00 p.m. to 5:30 p.m. and August 27, 2014 from 8:30 a.m. to 5:30 p.m. Online registration for the meeting must be completed on or before 5:00 p.m. (EST) August 19, 2014.

Location: Office of Justice Programs, 3rd floor ballroom. 810 7th Street NW., Washington, DC 20531.

FOR FURTHER INFORMATION CONTACT: Brette Steele, Senior Forensic Science Advisor and Senior Counsel to the Deputy Attorney General, by email at Brette.L.Steele@usdoj.gov or by phone at (202) 305-0180.

SUPPLEMENTARY INFORMATION: Agenda and Meeting Materials: All meeting materials will be made available to the public at http://www.justice.gov/ncfs. On August 26, the Commission will explore issues of cognitive bias in forensic science and receive subcommittee reports. On August 27, the Vice-Chairs will discuss the revised bylaws for the Commission. The Commission will also receive background briefings on latent print interoperability of Automated Fingerprint Identification Systems (AFIS) and the role of accreditation in forensic science. Lessons learned in forensic science from the United Kingdom and additional subcommittee reports will also be covered on August 27. Oral comments from the public will be heard from 5:00 p.m.-5:30 p.m. on Tuesday, August 26.

Procedures: The meeting will be webcast at: http://stream.spark streetdigital.com/player-ce.html?id=doj-aug26. The meeting is also open to the public. Those interested in attending the meeting in person will be required to register in advance and will be subject to security screening. Seating in the meeting room is limited and will be available on a first-come, first-served basis. All persons who are interested in being on-site for the meeting must register on-line at http://conferences.csrincorporated.com by using conference code: 2014-111P.

Members of the public may present oral comments on issues pending before the Commission. Those individuals interested in making oral comments should indicate their intent through the on-line registration form and will be allocated on a first-come, first-served basis. Time allotted for an individual's comment period will be limited to no more than 3 minutes. If the number of registrants requesting to speak is greater than can be reasonably accommodated during the scheduled public comment periods, written comments will be accepted in lieu of oral comments.

All submitted comments, written or oral, will be made available to the public (see Posting of Public Comments). Written public comments may be submitted to the Commission's Designated Federal Official, Brette Steele, by email at Brette.L.Steele@usdoj.gov.

Posting of Public Comments: In accordance with the Federal Records Act, please note that all comments received are considered part of the public record, and shall be made available for public inspection and posted on the Commission's Web site at www.justice.gov/ncfs. The comments to be posted may include personally identifiable information (such as your name, address, etc.) and confidential business information voluntarily submitted by the commenter.

If you want to submit personally identifiable information (such as your name, address, etc.) as part of your comment, but do not want it to be made available for public inspection and posted online, you must include the phrase “PERSONALLY IDENTIFIABLE INFORMATION” in the first paragraph of your comment. You must also place all the personally identifiable information you do not want made available for public inspection or posted online in the first paragraph of your comment and identify what information you want redacted.

If you want to submit confidential business information as part of your comment, but do not want it to be made available for public inspection and posted online, you must include the phrase “CONFIDENTIAL BUSINESS INFORMATION” in the first paragraph of your comment. You must also prominently identify confidential business information to be redacted within the comment. If a comment has so much confidential business information that it cannot be effectively redacted, all or part of that comment may not be made available for public inspection or posted online.

Personally identifiable information and confidential business information identified and located as set forth above will be redacted and the comment, in redacted form, will be made available for public inspection and posted on the Commission's Web site.

The Department of Justice welcomes the attendance of the public at its advisory committee meetings and will make every effort to accommodate persons with physical disabilities or special needs. If you require special accommodations, please indicate your requirements on the on-line registration form.

Dated: August 1, 2014.
James M. Cole,
Deputy Attorney General.

[FR Doc. 2014-18641 Filed 8-6-14; 8:45 am]

BILLING CODE 4410-18-P